NUCLEAR REGULATORY COMMISSION

[Project No. 753; NRC-2012-0280]

Models for Plant-Specific Adoption of Technical Specifications Task Force Traveler TSTF-535, Revision 0, “Revise Shutdown Margin Definition To Address Advanced Fuel Designs,” Using the Consolidated Line Item Improvement Process

AGENCY: Nuclear Regulatory Commission.

ACTION: Notice of availability.

SUMMARY: The U.S. Nuclear Regulatory Commission (NRC) is announcing the availability of Technical Specifications (TSs) Task Force (TSTF) Traveler TSTF-535, Revision 0, “Revise Shutdown Margin Definition to Address Advanced Fuel Designs,” for plant-specific adoption using the Consolidated Line Item Improvement Process (CLIIP). Additionally, the NRC staff finds the proposed TS (Volume 1) and TS Bases (Volume 2) changes in Traveler TSTF-535 acceptable for inclusion in the following Standard Technical Specifications (STS): NUREG-1433, “Standard Technical Specifications General Electric Plants BWR/4,” and NUREG-1434, “Standard Technical Specifications General Electric Plants, BWR/6.”

ADDRESSES: Please refer to Docket ID NRC-2012-0280 when contacting the NRC about the availability of information regarding this document. You may access information related to this document, which the NRC possesses and are publicly available, using any of the following methods:

• Federal Rulemaking Web site: Go to http://www.regulations.gov and search for Docket ID NRC-2012-0280. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. TSTF-535, Revision 0, includes a model application and is available in ADAMS under Accession No. ML112200436. The model safety evaluation (SE) of TSTF-535, Revision 0, is available under ADAMS Accession No. ML12355A772. No public comments were received from the Notice of Opportunity for Public Comment announced in the Federal Register on November 19, 2012; 77 FR 69507.

• NRC's PDR: You may examine and purchase copies of public documents at the NRC's PDR, Room O1-F21, One White Flint North, 11555 Rockville Pike, Rockville, Maryland 20852.

FOR FURTHER INFORMATION CONTACT: Ms. Michelle C. Honcharik, Senior Project Manager, telephone: 301-415-1774 or email at Michelle.Honcharik@nrc.gov; or Mr. Ravinder Grover, Reactor Systems Engineer, telephone: 301-415-2166 or email at Ravinder.Grover@nrc.gov. Both of the Office of Nuclear Reactor Regulation, U.S. Nuclear Regulatory Commission, Washington, DC, 20555-0001.

Congressional Review Act

In accordance with the Congressional Review Act of 1996, the NRC has determined that this action is not a major rule and has verified this determination with the OMB Office of Information and Regulatory Affairs.

SUPPLEMENTARY INFORMATION: TSTF-535, Revision 0, is applicable to all boiling water reactor (BWR) power plants. The change revises the STS, NUREG-1433, “Standard Technical Specifications General Electric Plants BWR/4,” and NUREG-1434, “Standard Technical Specifications General Electric Plants, BWR/6.” Specifically, the change revises the STS definition of shutdown margin (SDM) to require calculation of SDM at the reactor moderator temperature corresponding to the most reactive state throughout the operating cycle (68 °F or higher). The purpose is to address newer BWR fuel designs, which may be more reactive at shutdown temperatures above 68 °F. This STS improvement is part of the CLIIP.

The NRC staff has reviewed the model application for TSTF-535 and has found it acceptable for use by licensees. Licensees opting to apply for this TS change are responsible for reviewing the NRC's staff SE and the applicable technical bases, providing any necessary plant-specific information, and assessing the completeness and accuracy of their license amendment request (LAR). The NRC will process each amendment application responding to the Notice of Availability according to applicable NRC rules and procedures.

The change does not prevent licensees from requesting an alternate approach or proposing changes other than those proposed in TSTF-535, Revision 0. However, significant deviations from the approach recommended in this notice or the inclusion of additional changes to the license will require additional NRC staff review. This may increase the time and resources needed for the review or result in NRC staff rejection of the LAR. Licensees desiring significant deviations or additional changes should instead submit an LAR that does not claim to adopt TSTF-535, Revision 0.

Dated at Rockville, Maryland, this 14th day of February 2013.
For the Nuclear Regulatory Commission.
Anthony J. Mendiola,
Chief, Licensing Processes Branch, Division of Policy and Rulemaking, Office of Nuclear Reactor Regulation.

[FR Doc. 2013-04397 Filed 2-25-13; 8:45 am]

BILLING CODE 7590-01-P